INTERNATIONAL TRADE COMMISSION

[Inv. Nos. 701-TA-376, 377 and 379 and 731-TA-788-793 (Final)(Remand)]

Certain Stainless Steel Plate from Belgium, Canada, Italy, Korea, South Africa, and Taiwan; Notice of Final Court Decision Affirming Remand Determinations

AGENCY: International Trade Commission.

ACTION: Notice.

SUMMARY: The Commission gives notice of a final court decision affirming its final affirmative material injury determinations, made pursuant to court remand, in the countervailing duty and antidumping duty investigations of certain stainless steel plate (SSP) from Belgium, Canada, Italy, Korea, South Africa, and Taiwan.

FOR FURTHER INFORMATION CONTACT: Michael Diehl, Esq., Office of the General Counsel, U.S. International Trade Commission, 500 E Street, SW., Washington, DC 20436, telephone 202-205-3095. General information concerning the Commission may also be obtained by accessing its Internet server (http://www.usitc.gov). Hearing-impaired persons are advised that information on this matter can be obtained by contacting the Commission's TDD terminal on 202-205-1810. The public record for this investigation may be viewed on the Commission's electronic docket (EDIS-ON-LINE) at http://dockets.usitc.gov/eol/public.

SUPPLEMENTARY INFORMATION: In May of 1999, the Commission made original final determinations in Certain Stainless Steel Plate from Belgium, Canada, Italy, Korea, South Africa, and Taiwan, Invs. Nos. 701-TA-376, 377 and 379 and 731-TA-788-793 (Final), USITC Pub. 3188. A majority of the Commissioners found two domestic like products: hot-rolled SSP and cold-rolled SSP. The Commission reached affirmative material injury determinations with respect to subject imports of hot-rolled SSP from each of the six named countries. As to cold-rolled SSP, the Commission reached negative material injury and threat determinations with respect to subject imports from Belgium and Canada, and found the volume of subject imports from Italy, Korea, South Africa and Taiwan to be negligible. The remaining Commissioners found one like product, and reached affirmative material injury determinations encompassing subject imports of both hot-rolled SSP and cold-rolled SSP.

The affirmative determinations as to hot-rolled SSP were appealed to the U.S. Court of International Trade (CIT). The CIT affirmed the challenged aspect of the Commission's determination in Acciai Speciali Terni v. United States, 118 F. Supp. 2d 1298 (CIT 2000) .

The Commission's cold-rolled SSP determinations were the subject of a separate appeal. The CIT upheld the Commission's determinations. Allegheny Ludlum Corp. v. United States, 116 F. Supp. 2d 1276 (CIT 2000). On subsequent appeal to the Court of Appeals for the Federal Circuit, that Court found the Commission's analysis to be flawed. Allegheny Ludlum Corp. v. United States, 287 F.3d 1365 (Fed. Cir. 2002). The Federal Circuit vacated the decision of the CIT, and remanded for proceedings not inconsistent with its decision.

On remand, the Commission determined that an industry in the United States is materially injured by reason of imports of certain stainless steel plate from Belgium, Canada, Italy, Korea, South Africa, and Taiwan that the U.S. Department of Commerce determined were sold in the United States at less than fair value, and the subject imports from Belgium, Italy, and South Africa that the U.S. Department of Commerce determined were subsidized. Certain Stainless Steel Plate From Belgium, Canada, Italy, Korea, South Africa, and Taiwan, Inv. Nos. 701-TA-376, 377 and 379 (Final) and 731-TA-788-793 (Final) (Remand), USITC Pub. 3541 (Sept. 2002).

On December 12, 2002, the CIT affirmed the Remand Determination as being in accordance with the Court's remand order. There was no timely appeal of the order to the Federal Circuit.

The judicial proceedings having ended and the final court decision having been issued, the Commission, pursuant to 19 U.S.C. 1516(e), publishes notice of the final court decision affirming its remand determinations.

By order of the Commission.
Issued: February 20, 2003.
Marilyn R. Abbott,
Secretary.

[FR Doc. 03-4459 Filed 2-25-03; 8:45 am]

BILLING CODE 7020-02-P